DEPARTMENT OF HOMELAND SECURITY

Federal Emergency Management Agency

[Docket ID FEMA-2017-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: August 25, 2017.
Roy E. Wright,
Deputy Associate Administrator for Insurance and Mitigation, Department of Homeland Security, Federal Emergency Management Agency.

State and county | Location and case No. | Chief executive officer of community | Community map repository | Date of modification | Community No.
Arizona:
Yavapai, (FEMA Docket No.: B-1711) | Town of Prescott Valley (16-09-1866P). | The Honorable Harvey C. Skoog, Mayor, Town of Prescott Valley, 7501 East Civic Circle, Prescott Valley, AZ 86314 | Engineering Division, 7501 East Civic Circle, Prescott Valley, AZ 86314 | Jun. 20, 2017 | 040121
Yavapai, (FEMA Docket No.: B-1711) | Unincorporated areas of Yavapai County (16-09-1866P). | The Honorable Thomas Thurman, Chairman, Yavapai County Board of Supervisors, 1400 Orchard Court, Dewey, AZ 86327 | Yavapai County Flood Control District, 1120 Commerce Drive, Prescott, AZ 86305 | Jun. 20, 2017 | 040093
Arkansas: Benton, (FEMA Docket No.: B-1711) | Unincorporated areas of Benton County (16-06-4287P). | The Honorable Barry Moehring, Benton County Judge, 215 East Central Avenue, Bentonville, AR 72712 | Benton County Development Department, 905 Northwest 8th Street, Bentonville, AR 72712 | Jun. 15, 2017 | 050419
Colorado:
Boulder, (FEMA Docket No.: B-1711) | City of Boulder (17-08-0151P). | The Honorable Suzanne Jones, Mayor, City of Boulder, P.O. Box 791, Boulder, CO 80306 | Municipal Building, 1777 Broadway Street, Boulder, CO 80302 | Jun. 20, 2017 | 080024
El Paso, (FEMA Docket No.: B-1711) | Unincorporated areas of El Paso County (16-08-1065P). | The Honorable Darryl Glenn, President, El Paso County Board of Commissioners, 200 South Cascade Avenue, Suite 100, Colorado Springs, CO 80903 | El Paso County Regional Building Department, 2880 International Circle, Colorado Springs, CO 80910 | Jun. 15, 2017 | 080059
Jefferson, (FEMA Docket No.: B-1711) | City of Golden (16-08-1269P). | The Honorable Marjorie N. Sloan, Mayor, City of Golden, 911 10th Street, Golden, CO 80401 | Planning and Public Works Department, 1445 10th Street, Golden, CO 80401 | Jun. 23, 2017 | 080090
Jefferson, (FEMA Docket No.: B-1711) | City of Lakewood (16-08-1275P). | The Honorable Adam Paul, Mayor, City of Lakewood, 480 South Allison Parkway, Lakewood, CO 80226 | Public Works Department, 480 South Allison Parkway, Lakewood, CO 80226 | Jun. 2, 2017 | 085075
Weld, (FEMA Docket No.: B-1711) | Unincorporated areas of Weld County (16-08-0665P). | The Honorable Julie Cozad, Chair, Weld County, Board of Commissioners, P.O. Box 758, Greeley, CO 80632 | Weld County Commissioner's Office, 915 10th Street, Greeley, CO 80632 | Jun. 20, 2017 | 085266
Weld, (FEMA Docket No.: B-1711) | Unincorporated areas of Weld County (16-08-0734P). | The Honorable Julie Cozad, Chair, Weld County, Board of Commissioners, P.O. Box 758, Greeley, CO 80632 | Weld County Commissioner's Office, 915 10th Street, Greeley, CO 80632 | Jun. 21, 2017 | 085266
Connecticut:
Middlesex, (FEMA Docket No.: B-1711) | Town of Clinton (16-01-2812P). | The Honorable Bruce N. Farmer, First Selectman, Town of Clinton Board of Selectmen, 54 East Main Street, Clinton, CT 06413 | Planning and Zoning Department, 54 East Main Street, Clinton, CT 06413 | Jun. 30, 2017 | 090061
Middlesex, (FEMA Docket No.: B-1711) | Town of Cromwell (16-01-2223P). | Mr. Anthony J. Salvatore, Manager, Town of Cromwell, 41 West Street, Cromwell, CT 06416 | Town Hall, 41 West Street, Cromwell, CT 06416 | Jun. 15, 2017 | 090123
Florida:
Broward, (FEMA Docket No.: B-1711) | City of Parkland (16-04-7729P). | The Honorable Christine Hunschofsky, Mayor, City of Parkland, 6600 University Drive, Parkland, FL 33067 | Building Division, 6600 University Drive, Parkland, FL 33067 | Jun. 20, 2017 | 120051
Lee, (FEMA Docket No.: B-1711) | City of Sanibel (16-04-7608P). | The Honorable Kevin Ruane, Mayor, City of Sanibel, 800 Dunlop Road, Sanibel, FL 33957 | Planning and Code Enforcement Department, 800 Dunlop Road, Sanibel, FL 33957 | Jun. 30, 2017 | 120402
Lee, (FEMA Docket No.: B-1711) | City of Sanibel (17-04-0941P). | The Honorable Kevin Ruane, Mayor, City of Sanibel, 800 Dunlop Road, Sanibel, FL 33957 | Planning and Code Enforcement Department, 800 Dunlop Road, Sanibel, FL 33957 | Jun. 23, 2017 | 120402
Lee, (FEMA Docket No.: B-1711) | Town of Fort Myers Beach (17-04-1151P). | The Honorable Dennis C. Boback, Mayor, Town of Fort Myers Beach, 2525 Estero Boulevard, Fort Myers Beach, FL 33931 | Community Development Department, 2525 Estero Boulevard, Fort Myers Beach, FL 33931 | Jun. 29, 2017 | 120673
Leon, (FEMA Docket No.: B-1711) | City of Tallahassee (16-04-3774P). | The Honorable Andrew Gillum, Mayor, City of Tallahassee, 300 South Adams Street, Tallahassee, FL 32301 | Stormwater Management Division, 300 South Adams Street, Tallahassee, FL 32301 | May 30, 2017 | 120144
Monroe, (FEMA Docket No.: B-1711) | City of Key West (17-04-1155P). | The Honorable Craig Cates, Mayor, City of Key West, 1300 White Street, Key West, FL 33040 | Building Department, 1300 White Street, Key West, FL 33040 | Jun. 23, 2017 | 120168
Monroe, (FEMA Docket No.: B-1711) | Unincorporated areas of Monroe County (17-04-1155P). | The Honorable George Neugent, Mayor, Monroe County Board of Commissioners, 500 Whitehead Street, Suite 102, Key West, FL 33040 | Monroe County Building Department, 2798 Overseas Highway, Suite 300, Marathon, FL 33050 | Jun. 23, 2017 | 125129
Monroe, (FEMA Docket No.: B-1711) | Village of Islamorada (16-04-7741P). | The Honorable Jim Mooney, Mayor, Village of Islamorada, 86800 Overseas Highway, Islamorada, FL 33036 | Planning and Development Services Department, 86800 Overseas Highway, Islamorada, FL 33036 | Jun. 16, 2017 | 120424
Osceola, (FEMA Docket No.: B-1711) | City of St. Cloud (17-04-2758P). | The Honorable Rebecca Borders, Mayor, City of St. Cloud, 1300 9th Street, St. Cloud, FL 34769 | Public Services Department, 1300 9th Street, St. Cloud, FL 34769 | Jul. 5, 2017 | 120191
Osceola, (FEMA Docket No.: B-1711) | Unincorporated areas of Osceola County (17-04-2758P). | The Honorable Brandon Arrington, Chairman, Osceola County Board of Commissioners, 1 Courthouse Square, Suite 4700, Kissimmee, FL 34741 | Osceola County Community Development Department, 1 Courthouse Square, Suite 1400, Kissimmee, FL 34741 | Jul. 5, 2017 | 120189
Pinellas, (FEMA Docket No.: B-1711) | City of St. Petersburg (15-04-9249P). | The Honorable Rick Kriseman, Mayor, City of St. Petersburg, 175 5th Street North, St. Petersburg, FL 33701 | Municipal Services Center, Permit Division, 1 4th Street North, St. Petersburg, FL 33701 | Jun. 8, 2017 | 125148
Polk, (FEMA Docket No.: B-1711) | Unincorporated areas of Polk County (17-04-2106P). | The Honorable John E. Hall, Chairman, Polk County Board of Commissioners, P.O. Box 9005, Drawer BC01, Bartow, FL 33831 | Polk County Land Development Division, 330 West Church Street, Bartow, FL 33830 | Jun. 1, 2017 | 120261
Georgia: Gwinnett, (FEMA Docket No.: B-1711) | Unincorporated areas of Gwinnett County (16-04-7239P). | The Honorable Charlotte J. Nash, Chair, Gwinnett County Board of Commissioners, 75 Langley Drive, Lawrenceville, GA 30046 | Gwinnett County Stormwater Management Division, 684 Winder Highway, Lawrenceville, GA 30045 | Jun. 5, 2017 | 130322
Maine: Oxford, (FEMA Docket No.: B-1711) | Town of Rumford (16-01-2320P). | Mr. John E. Madigan, Jr., Manager, Town of Rumford, 145 Congress Street, Rumford, ME 04276 | Municipal Office Building, 145 Congress Street, Rumford, ME 04276 | Jun. 1, 2017 | 230099
Maryland:
Baltimore, (FEMA Docket No.: B-1711) | Unincorporated areas of Baltimore County (16-03-1236P). | The Honorable Kevin Kamenetz, Baltimore County Executive, 400 Washington Avenue, Towson, MD 21204 | Public Works Department, 111 West Chesapeake Avenue, Suite 307, Towson, MD 21204 | Jun. 20, 2017 | 240010
Harford, (FEMA Docket No.: B-1711) | City of Havre de Grace (16-03-2684P). | The Honorable William T. Martin, Mayor, City of Havre de Grace, 711 Pennington Avenue, Havre de Grace, MD 21078 | Department of Planning, 711 Pennington Avenue, Havre de Grace, MD 21078 | Jun. 19, 2017 | 240043
New Hampshire:
Hillsborough, (FEMA Docket No.: B-1711) | Town of Hancock (16-01-2528P). | The Honorable John Jordan, Chairman, Town of Hancock Board of Selectmen, P.O. Box 6, Hancock, NH 03449 | Town Hall, 50 Main Street, Hancock, NH 03449 | Jun. 22, 2017 | 330089
Rockingham, (FEMA Docket No.: B-1711) | Town of Salem (16-01-2177P). | The Honorable James S. Keller, Chairman, Town of Salem Board of Selectmen, 33 Geremonty Drive, Salem, NH 03079 | Town Hall, 33 Geremonty Drive, Salem, NH 03079 | Jun. 16, 2017 | 330142
North Carolina:
Catawba, (FEMA Docket No.: B-1733) | City of Conover (16-04-1634P). | The Honorable Lee E. Moritz, Jr., Mayor, P.O. Box 549, Conover, NC 28613 | City Hall, 101 1st Street East, Conover, NC 28613 | May 30, 2017 | 370053
Catawba, (FEMA Docket No.: B-1733) | Unincorporated areas of Catawba County (16-04-1634P). | The Honorable C. Randall Isenhower, Chairman, Catawba County Board of Commissioners, P.O. Box 389, Newton, NC 28658 | Catawba County Planning and Parks Department, 100-A South West Boulevard, Newton, NC 28658 | May 30, 2017 | 370050
Randolph, (FEMA Docket No.: B-1711) | Unincorporated areas of Randolph County (16-04-5817P). | The Honorable David Allen, Chairman, Randolph County Board of Commissioners, 725 McDowell Road, Asheboro, NC 27205 | Randolph County Planning and Zoning Department, 204 East Academy Street, Asheboro, NC 27203 | May 30, 2017 | 370195
Surry, (FEMA Docket No.: B-1711) | Unincorporated Areas of Surry County (17-04-1025P). | The Honorable Eddie Harris, Chairman, Surry County Board of Commissioners, 118 Hamby Road, Dobson, NC 27017 | Surry County Planning and Development Department, 122 Hamby Road, Dobson, NC 27017 | Jun. 21, 2017 | 370364
Oklahoma:
Cleveland, (FEMA Docket No.: B-1711) | City of Norman (16-06-2604P). | The Honorable Lynne Miller, Mayor, City of Norman, P.O. Box 370, Norman, OK 73070 | Department of Public Works, 201 West Gray Street, Norman, OK 73069 | May 31, 2017 | 400046
Osage, (FEMA Docket No.: B-1711) | City of Tulsa (17-06-0847P). | The Honorable G.T. Bynum, Mayor, City of Tulsa, 175 East 2nd Street, 15th Floor, Tulsa, OK 74103 | Planning and Development Department, 175 East 2nd Street, 4th Floor, Tulsa, OK 74103 | Jun. 21, 2017 | 405381
South Carolina: Charleston, (FEMA Docket No.: B-1711) | City of Charleston (17-04-1149P). | The Honorable John J. Tecklenburg, Mayor, City of Charleston, P.O. Box 652, Charleston, SC 29402 | Building Inspections Department, 2 George Street, Charleston, SC 29401 | Jul. 3, 2017 | 455412
Texas:
Bexar, (FEMA Docket No.: B-1711) | City of San Antonio (16-06-3466P). | The Honorable Ivy R. Taylor, Mayor, City of San Antonio, P.O. Box 839966, San Antonio, TX 78283 | Transportation and Capital Improvements Department, Stormwater Division, 1901 South Alamo Street, 2nd Floor, San Antonio, TX 78204 | Jun. 6, 2017 | 480045
Bexar, (FEMA Docket No.: B-1711) | City of San Antonio (16-06-4371P). | The Honorable Ivy R. Taylor, Mayor, City of San Antonio, P.O. Box 839966, San Antonio, TX 78283 | Transportation and Capital Improvements Department, Stormwater Division, 1901 South Alamo Street, 2nd Floor, San Antonio, TX 78204 | Jun. 29, 2017 | 480045
Collin, (FEMA Docket No.: B-1711) | City of Richardson (16-06-3349P). | The Honorable Paul Voelker, Mayor, City of Richardson, P.O. Box 830309, Richardson, TX 75083 | City Hall, 411 West Arapaho Road, Richardson, TX 75080 | Jun. 8, 2017 | 480184
Collin, (FEMA Docket No.: B-1711) | Town of Prosper (16-06-4255P). | The Honorable Ray Smith, Mayor, Town of Prosper, P.O. Box 307, Prosper, TX 75078 | Engineering Services Department, 407 East 1st Street, Prosper, TX 75078 | May 25, 2017 | 480141
Dallas, (FEMA Docket No.: B-1711) | City of Irving (16-06-2467P). | The Honorable Beth Van Duyne, Mayor, City of Irving, 825 West Irving Boulevard, Irving, TX 75060 | Capital Improvement Program Department, Engineering Section, 825 West Irving Boulevard, Irving, TX 75060 | May 30, 2017 | 480180
Fort Bend, (FEMA Docket No.: B-1711) | City of Missouri City (16-06-2183P). | The Honorable Allen Owen, Mayor, City of Missouri City, 1522 Texas Parkway, Missouri City, TX 77489 | Public Works Department, 1522 Texas Parkway, Missouri City, TX 77489 | Jun. 27, 2017 | 480304
Fort Bend, (FEMA Docket No.: B-1711) | Fort Bend County M.U.D.#23 (16-06-2183P). | The Honorable William Thomas, President, Fort Bend County M.U.D. #23 Board of Directors, 3200 Southwest Freeway, Suite 2600, Houston, TX 77027 | Fort Bend County Engineering Department, 301 Jackson Street, Richmond, TX 77469 | Jun. 27, 2017 | 481590
Fort Bend, (FEMA Docket No.: B-1711) | Unincorporated areas of Fort Bend County (16-06-2183P). | The Honorable Robert Hebert, Fort Bend County Judge, 401 Jackson Street, Richmond, TX 77469 | Fort Bend County Engineering Department, 301 Jackson Street, Richmond, TX 77469 | Jun. 27, 2017 | 480228
Hays, (FEMA Docket No.: B-1711) | City of San Marcos (16-06-3604P). | The Honorable John Thomaides, Mayor, City of San Marcos, 630 East Hopkins Street, San Marcos, TX 78666 | Engineering Department, 630 East Hopkins Street, San Marcos, TX 78666 | Jun. 23, 2017 | 485505
Virginia:
Prince William, (FEMA Docket No.: B-1711) | Unincorporated areas of Prince William County (16-03-1829P). | Mr. Chistopher E. Martino, Prince William County Executive, 1 County Complex Court, Prince William, VA 22192 | Prince William County Department of Public Works, 5 County Complex Court, Prince William, VA 22192 | Jun. 15, 2017 | 510119

[FR Doc. 2017-20466 Filed 9-22-17; 8:45 am]

BILLING CODE 9110-12-P